DEPARTMENT OF ENERGY

Federal Energy Regulatory Commission

[Project No. 12033-001]

Symbiotics, LLC.; Notice of Surrender of Preliminary Permit

June 6, 2003.

Take notice that Symbiotics, LLC, permittee for the proposed Helena Valley Hydroelectric Project, has requested that its preliminary permit be terminated. The permit was issued on November 6, 2001, and would have expired on October 31, 2004. The project would have been located on Ten Mile Creek in Lewis and Clark County, Montana.

The permittee filed the request on April 30, 2003, and the preliminary permit for Project No. 12033 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-14891 Filed 6-11-03; 8:45 am]

BILLING CODE 6717-01-P